DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of June 21, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Federal Emergency Management Agency, Department of Homeland Security.

Community | Community map repository address
Worcester County, Massachusetts (All Jurisdictions)
Docket No.: FEMA-B-2180
Town of Auburn | Conservation Commission, 104 Central Street, 2nd Floor, Auburn, MA 01501.
Town of Charlton | Office of Town Administrator, 37 Main Street, Charlton, MA 01507.
Town of Douglas | Town Clerk's Office, 29 Depot Street, Douglas, MA 01516.
Town of Dudley | Board of Selectmen's Office, 71 West Main Street, Dudley, MA 01571.
Town of Leicester | Town Clerk's Office, 3 Washburn Square, Leicester, MA 01524.
Town of Oxford | Town Hall, 325 Main Street, Oxford, MA 01540.
Town of Southbridge | Town Clerk's Office, 41 Elm Street, Southbridge, MA 01550.
Town of Spencer | Conservation Commission, 157 Main Street, Spencer, MA 01562.
Town of Sturbridge | Planning Department, 301 Main Street, Sturbridge, MA 01566.
Town of Sutton | Town Hall, 4 Uxbridge Road, Sutton, MA 01590.
Town of Webster | Conservation Commission, 350 Main Street, Webster, MA 01570.
Allegan County, Michigan (All Jurisdictions)
Docket No.: FEMA-B-2114
City of Allegan | City Hall, 231 Trowbridge Street, Allegan, MI 49010.
City of Fennville | City Hall, 125 South Maple Street, Fennville, MI 49408.
City of Holland | City Hall, 270 South River Avenue, Holland, MI 49423.
City of Otsego | City Hall, 117 East Orleans Street, Otsego, MI 49078.
City of Plainwell | City Hall, 211 North Main Street, Plainwell, MI 49080.
City of Saugatuck | City Hall, 102 Butler Street, Saugatuck, MI 49453.
City of the Village of Douglas | City Hall, 86 West Center Street, Douglas, MI 49406.
City of Wayland | City Hall, 103 South Main Street, Wayland, MI 49348.
Township of Allegan | Township Hall, 3037 118th Avenue, Allegan, MI 49010.
Township of Casco | Casco Township Hall, 7104 107th Avenue, South Haven, MI 49090.
Township of Cheshire | Cheshire Township Hall, 471 41st Street, Allegan, MI 49010.
Township of Clyde | Clyde Township Hall, 1679 56th Street, Fennville, MI 49408.
Township of Dorr | Township Hall, 4196 18th Street, Dorr, MI 49323.
Township of Fillmore | Fillmore Township Hall, 4219 52nd Street, Holland, MI 49423.
Township of Ganges | Ganges Township Hall, 1904 64th Street, Fennville, MI 49408.
Township of Gun Plain | Gun Plain Township Hall, 381 8th Street, Plainwell, MI 49080.
Township of Heath | Heath Township Hall, 3440 M-40, Hamilton, MI 49419.
Township of Hopkins | Township Hall, 142 East Main Street, Hopkins, MI 49328.
Township of Laketown | Laketown Township Hall, 4338 Beeline Road, Holland, MI 49423.
Township of Lee | Lee Township Hall, 877 56th Street, Pullman, MI 49450.
Township of Leighton | Leighton Township Hall, 4451 12th Street, Suite A, Wayland, MI 49348.
Township of Manlius | Manlius Township Hall, 3134 57th Street, Fennville, MI 49408.
Township of Martin | Township Hall, 998 Templeton Street, Martin, MI 49070.
Township of Monterey | Monterey Township Hall, 2999 30th Street, Allegan, MI 49010.
Township of Otsego | Township Hall, 400 North 16th Street, Otsego, MI 49078.
Township of Overisel | Overisel Township Hall, A-4307 144th Avenue, Holland, MI 49423.
Township of Salem | Salem Township Hall, 3003 142nd Avenue, Burnips, MI 49314.
Township of Saugatuck | Township Hall, 3461 Blue Star Highway, Saugatuck, MI 49453.
Township of Trowbridge | Trowbridge Township Hall, 913 M-40 South, Allegan, MI 49010.
Township of Valley | Valley Township Hall, 2054 North M-40, Allegan, MI 49010.
Township of Watson | Watson Township Hall, 1895 118th Avenue, Allegan, MI 49010.
Township of Wayland | Wayland Township Hall, 1060 129th Avenue, Shelbyville, MI 49344.
Village of Hopkins | Village Hall, 128 South Franklin Street, Hopkins, MI 49328.
Stafford County, Virginia (All Jurisdictions)
Docket Nos.: FEMA-B-2030 and B-2204
Unincorporated Areas of Stafford County | Stafford County Department of Development Services, 2126 Jefferson Davis Highway, Suite 203, Stafford, Virginia 22554.

[FR Doc. 2023-01425 Filed 1-24-23; 8:45 am]

BILLING CODE 9110-12-P